DEPARTMENT OF THE TREASURY

Office of Foreign Assets Control

Identification of One Individual, Fourteen Entities, and Eight Vessels Pursuant to the Iranian Transactions and Sanctions Regulations and Executive Order 13599

AGENCY: Office of Foreign Assets Control, Treasury.

ACTION: Notice.

SUMMARY: The Treasury Department's Office of Foreign Assets Control (“OFAC”) is publishing the names of one individual and fourteen entities identified as the Government of Iran, and eight vessels identified as the property of the Government of Iran under the Iranian Transactions and Sanctions Regulations, 31 CFR part 560 (“ITSR”), and Executive Order 13599.

DATES: The identification by the Director of OFAC of the individual, entities, and vessels identified in this notice, pursuant to the ITSR and Executive Order 13599 is effective on March 14, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 5, 2012, the President issued Executive Order 13599, “Blocking Property of the Government of Iran and Iranian Financial Institutions” (the “Order”). Section 1(a) of the Order blocks, with certain exceptions, all property and interests in property of the Government of Iran, including the Central Bank of Iran, that are in the United States, that hereafter come within the United States, or that are or hereafter come within the possession or control of any United States person, including any foreign branch.

Section 7 (d) of the Order defines the term “Government of Iran” to mean the Government of Iran, any political subdivision, agency, or instrumentality thereof, including the Central Bank of Iran, and any person owned or controlled by, or acting for or on behalf of, the Government of Iran.

Section 560.211 of the ITSR implements Section 1(a) of the Order. Section 560.304 defines the term “Government of Iran” to include: “(a) The state and the Government of Iran, as well as any political subdivision, agency, or instrumentality thereof, including the Central Bank of Iran; (b) Any person owned or controlled, directly or indirectly, by the foregoing; and (c) Any person to the extent that such person is, or has been, since the effective date, acting or purporting to act, directly or indirectly, for or on behalf of any of the foregoing; and (d) Any other person determined by the Office of Foreign Assets Control to be included within [(a) through (c)].” Section 560.313 of the ITSR further defines an “entity owned or controlled by the Government of Iran” to include “any corporation, partnership, association, or other entity in which the Government of Iran owns a 50 percent or greater interest or a controlling interest, and any entity which is otherwise controlled by that government.”

On March 14, 2013, the Director of OFAC identified one individual and fourteen entities as meeting the definition of the Government of Iran, and identified eight vessels as the property of the Government of Iran pursuant to the Order and the ITSR.

The listing for the individual, entities, and vessels is as follows:

Individual and Entities

1. CAMBIS, Dimitris (a.k.a. KAMPIS, Dimitrios Alexandros; a.k.a. KLIMT, Gustav); DOB 14 Oct 1963 (individual) [IRAN] [ISA].

2. IMPIRE SHIPPING COMPANY (a.k.a. IMPIRE SHIPPING; a.k.a. IMPIRE SHIPPING LIMITED), Greece [IRAN] [ISA].

3. LIBRA SHIPPING SA (a.k.a. LIBRA SHIPPING), 3, Xanthou Street, Glyfada 16674, Greece [IRAN].

4. MONSOON SHIPPING LTD, c/o of Libra Shipping SA, 3, Xanthou Street, Glyfada, Athens 16674, Greece [IRAN].

5. KONING MARINE CORP, c/o of Libra Shipping SA, 3, Xanthou Street, Glyfada, Athens 16674, Greece [IRAN].

6. BLUE TANKER SHIPPING SA, c/o Libra Shipping SA, 3, Xanthou Street, Glyfada, Athens 16674, Greece [IRAN].

7. JUPITER SEAWAYS SHIPPING, c/o Libra Shipping SA, 3, Xanthou Street, Glyfada, Athens 16674, Greece [IRAN].

8. HERCULES INTERNATIONAL SHIP, c/o Libra Shipping SA, 3, Xanthou Street, Glyfada, Athens 16674, Greece [IRAN].

9. HERMIS SHIPPING SA, c/o Libra Shipping SA, 3, Xanthou Street, Glyfada, Athens 16674, Greece [IRAN].

10. GARBIN NAVIGATION LTD, c/o Libra Shipping SA, 3, Xanthou Street, Glyfada, Athens 16674, Greece [IRAN].

11. GRACE BAY SHIPPING INC, c/o Libra Shipping SA, 3, Xanthou Street, Glyfada, Athens 16674, Greece [IRAN].

12. SIMA GENERAL TRADING CO FZE (a.k.a. SIMA GENERAL TRADING & INDUSTRIALS FOR BUILDING MATERIAL CO FZE), Office No. 703 Office Tower, Twin Tower, Baniyas Rd., Deira, P.O. Box 49754, Dubai, United Arab Emirates [IRAN].

13. POLINEX GENERAL TRADING LLC, Health Care City, Umm Hurair Rd., Oud Mehta Offices, Block A, 4th Floor 420, Dubai, United Arab Emirates [IRAN].

14. ASIA ENERGY GENERAL TRADING (LLC), Suite 703, Twin Tower, Baniyas Street, Deira, Dubai, United Arab Emirates [IRAN].

15. SYNERGY GENERAL TRADING FZE, Sharjah—Saif Zone, Sharjah Airport International Free Zone, United Arab Emirates [IRAN].

Vessels

1. OCEAN PERFORMER Crude Oil Tanker Liberia flag; Vessel Registration Identification IMO 9013749 (vessel) [IRAN].

2. OCEAN NYMPH Crude Oil Tanker Panama flag; Vessel Registration Identification IMO 9180281 (vessel) [IRAN].

3. NEREYDA Crude Oil Tanker Panama flag; Vessel Registration Identification IMO 9011246 (vessel) [IRAN].

4. ZAP Crude Oil Tanker Liberia flag; Vessel Registration Identification IMO 9005235 (vessel) [IRAN].

5. SEAGULL Crude Oil Tanker Liberia flag; Vessel Registration Identification IMO 9107655 (vessel) [IRAN].

6. ULYSSES 1 Crude Oil Tanker Liberia flag; Vessel Registration Identification IMO 9177155 (vessel) [IRAN].

7. GLAROS Crude Oil Tanker Liberia flag; Vessel Registration Identification IMO 9077850 (vessel) [IRAN].

8. LEYCOTHEA Crude Oil Tanker Panama flag; Vessel Registration Identification IMO 9183934 (vessel) [IRAN].

Dated: March 14, 2013.
Adam J. Szubin,
Director, Office of Foreign Assets Control.

[FR Doc. 2013-07174 Filed 3-27-13; 8:45 am]

BILLING CODE 4810-AL-P